DEPARTMENT OF LABOR

Mine Safety and Health Administration

Proposed Information Collection Request; Training, Training Plans, and Records

AGENCY: Mine Safety and Health Administration, Labor.

ACTION: Request for comments.

SUMMARY: The Department of Labor, as part of its continuing effort to reduce paperwork and respondent burden, conducts a pre-clearance consultation program to provide the general public and Federal and state agencies with an opportunity to comment on proposed or continuing collections of information in accordance with the Paperwork Reduction Act of 1995. This program helps ensure that requested information collections are in formats appropriate to the mining community, that reporting is minimal, collection instruments are clearly understood, and that the impact of collection requirements can be properly assessed.

The Mine Safety and Health Administration is soliciting comments concerning the proposed extension of an existing information collection, OMB Control Number 1219-0131, Part 46—Training, Training Plans, and Records.

OMB last approved this information collection request (ICR) on March 10, 2009.

DATES: Submit comments on or before May 21, 2012.

ADDRESSES: Comments must be identified with “OMB Control Number 1219-0131” and sent to both the Office of Management and Budget (OMB) and MSHA. Comments to MSHA may be sent by any of the methods listed below.

• Federal E-Rulemaking Portal: http://www.regulations.gov. Follow the on-line instructions for submitting comments.

• Facsimile: 202-693-9441, include “OMB 1219-0131” in the subject line of the message.

• Regular Mail or Hand Delivery: MSHA, Office of Standards, Regulations, and Variances, 1100 Wilson Boulevard, Room 2350, Arlington, VA 22209-3939. For hand delivery, sign in at the receptionist's desk on the 21st floor.

Comments to OMB may be sent by mail addressed to the Office of Information and Regulatory Affairs, Office of Management and Budget, New Executive Office Building, 725 17th Street NW., Washington, DC 20503, Attn: Desk Officer for MSHA.

FOR FURTHER INFORMATION CONTACT: Greg Moxness, Chief, Economic Analysis Division, Office of Standards, Regulations, and Variances, MSHA, at moxness.greg@dol.gov (email); 202-693-9440 (voice); or 202-693-9441 (facsimile).

SUPPLEMENTARY INFORMATION:

I. Background

The requirements related to OMB 1219-0131 apply at shell dredging, sand, gravel, surface stone, surface clay, colloidal phosphate, and surface limestone mines. The requirements are intended to help protect miners by ensuring that they are trained about the hazards to which they can be exposed as a result of their employment at these operations.

II. Desired Focus of Comments

The Mine Safety and Health Administration (MSHA) is soliciting comments concerning the proposed extension of the information collection related to training, training plans, and records at these operations. MSHA is particularly interested in comments that:

• Evaluate whether the collection of information is necessary for the proper performance of MSHA's functions, including whether the information has practical utility;

• Evaluate the accuracy of MSHA's estimate of the burden of the collection of information, including the validity of the methodology and assumptions used;

• Suggest methods to enhance the quality, utility, and clarity of the information to be collected; and

• Address the use of appropriate automated, electronic, mechanical, or other technological collection techniques or other forms of information technology (e.g., permitting electronic submissions of responses, to minimize the burden of the collection of information on those who are to respond).

The public may examine publicly available documents, including the public comment version of the supporting statement, at MSHA, Office of Standards, Regulations, and Variances, 1100 Wilson Boulevard Room 2350, Arlington, VA 22209-3939. OMB clearance requests are available on MSHA's Web site at http://www.msha.gov under “Rules & Regs” on the right side of the screen by selecting Information Collections Requests, Paperwork Reduction Act Supporting Statements. The public comment version of the supporting statement will be available on MSHA's Web site for 60 days after the publication date of this notice. Comments submitted in writing or in electronic form will be made available for public inspection. Because comments will not be edited to remove any identifying or contact information, MSHA cautions the commenter against including any information in the submission that should not be publicly disclosed. Questions about the information collection requirements may be directed to the person listed in the FOR FURTHER INFORMATION CONTACT section of this notice.

III. Current Actions

The information obtained from mine operators is used by MSHA during inspections to determine compliance with the requirements concerning the training and retraining of miners engaged in shell dredging or employed at sand, gravel, surface stone, surface clay, colloidal phosphate, or surface limestone mines. MSHA has updated the data with respect to the number of respondents and responses, as well as the total burden hours and burden costs supporting this information collection extension request.

Type of Review: Extension.

Agency: Mine Safety and Health Administration.

Title: Part 46—Training, Training Plans, and Records.

OMB Number: 1219-0131.

Affected Public: Business or other for-profit.

Cite/Reference/Form/etc: 30 CFR Part 46.

Total Respondents: 10,577.

Frequency: Various.

Total Responses: 1,025,161.

Estimated Total Burden Hours: 137,570 hours.

Estimated Total Burden Cost: $315,641.

Comments submitted in response to this notice will be summarized and included in the request for Office of Management and Budget approval of the information collection request; they will also become a matter of public record.

Authority: 44 U.S.C. 3506(c)(2)(A).

Patricia W. Silvey,
Certifying Officer.

[FR Doc. 2012-6871 Filed 3-21-12; 8:45 am]

BILLING CODE 4510-43-P